DEPARTMENT OF COMMERCE

National Oceanic and Atmospheric Administration

[I.D. 020205D]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one vessel to conduct fishing operations that are otherwise restricted by the regulations governing the fisheries of the Northeastern United States. The EFP may allow for exemptions from the NE multispecies days-at-sea (DAS) effort control program for up to 11 DAS for the purposes of studying the effects of a soft grid species separation trawl. In addition, this EFP would allow exemptions from the Gulf of Maine (GOM) Rolling Closure Areas II, III, and IV.

Regulations under the Magnuson-Stevens Fishery Conservation and Management Act require publication of this notification to provide interested parties the opportunity to comment on applications for proposed EFPs.

DATES: Comments on this document must be received on or before February 22, 2005.

ADDRESSES: Comments on this notice may be submitted by e-mail. The mailbox address for providing e-mail comments is DA5-08@noaa.gov. Include in the subject line of the e-mail comment the following document identifier: “Comments on UNH Soft Grid Gear Modification EFP Proposal.” Written comments should be sent to Patricia A. Kurkul, Regional Administrator, NMFS, Northeast Regional Office, 1 Blackburn Drive, Gloucester, MA 01930. Mark the outside of the envelope “Comments on UNH Soft Grid Gear Modification EFP Proposal.” Comments may also be sent via facsimile (fax) to (978) 281-9135.

FOR FURTHER INFORMATION CONTACT: Heather L. Sagar, Fishery Management Specialist, phone 978-281-9341.

SUPPLEMENTARY INFORMATION:

Dr. Pingguo He of the University of New Hampshire Cooperative Extension (UNH) submitted an application for an EFP on May 27, 2004. This EFP was approved and granted for the period November 19, 2004, through April 30, 2005. This is a continuation of a project that was begun in 2002. Due to the time needed to conduct gear modifications and tank flume tests, as well as poor weather conditions, the sea trails were not completed during the 2003-2004 fishing years. This EFP would authorize one commercial vessel to conduct sea trials using a soft grid finfish excluder device. The objective of the research is to test trawl gear designed to separate flatfish from roundfish for the purpose of reducing bycatch of roundfish, particularly cod. The separation device is designed to exploit behavioral differences that exist between these two types of fish.

The proposed gear design consists of a trawl net with a soft panel, or ramp, that would be positioned in front of a double codend. The gear is designed in such a way as to take advantage of the tendency for flatfish to swim towards the ocean bottom after encountering the separation panel and thereby into the lower codend portion of the net. Roundfish, which are not expected to swim towards the sea floor after encountering the panel, are expected to swim into the upper codend portion of the net, which would be left open under normal fishing practices when the vessel is targeting flatfish. However, for the purposes of this experiment, both codends would remain closed in order to quantify separation success of these two types of fish. The net would also utilize visual stimuli fixed forward of the codend to test changes in swimming behavior in roundfish and flatfish in response to the stimuli. Underwater videography would be employed to observe fish behavior and functioning of the experimental selectivity device. The sea trials would be conducted in shallow water (30 to 50 fathoms (55 to 91 m)) off the coasts of New Hampshire, southern Maine, and a small portion of northern Massachusetts. UNH researchers would be aboard the vessel at all times during the experimental work.

In a letter dated January 20, 2005, Dr. He requested that this EFP be extended from April 30, 2005, the previously proposed end date, through July 31, 2005. Because no additional DAS would be exempted from what was allowed under the previously approved 2004 EFP, the at-sea portion of the experiment would last no longer than 11 fishing days from November 19, 2004, through July 31, 2005. Based upon the catch rates from 8 days of fishing during the same period of time in the 2003 fishing year, the following catch is estimated to be harvested under this EFP during the period May 1, through July 31, 2005: Cod 2,846 lb (1,291 kg); witch flounder 1,547 lb (702 kg); American plaice 274 lb (124 kg); white hake 140 lb (64 kg); yellowtail flounder 87 lb (40 kg); winter flounder 50 lb (23 kg); haddock 34 lb (15 kg); and pollock 11 lb (5 kg). All undersized fish would be returned to the sea as quickly as possible. Legal-sized fish that would otherwise have to be discarded would be allowed to be retained and sold within the applicable GOM possession limits. The participating vessel would be required to report all landings in its Vessel Trip Report.

Due to an oversight in the Federal Register notice announcing the 2004 EFP for this project (69 FR 58153, September 29, 2004), this EFP would also exempt vessels from Rolling Closure Area II during April 2005. Thus, an EFP would be issued to one vessel exempting it from GOM Rolling Closure Areas II, III, and IV and; from the NE multispecies DAS effort control program for any of the 11 DAS remaining from the previous 2004 EFP that was issued. The applicant may request minor modifications to the EFP throughout the year. EFP modifications may be granted without further notice if they are deemed essential to facilitate completion of the proposed research and minimal as not to change the scope or impact the initially approved EFP request.

Authority: 16 U.S.C. 1801 et seq.

Dated: February 2, 2005.
Alan D. Risenhoover,
Acting Director, Office of Sustainable Fisheries, National Marine Fisheries Service.

[FR Doc. E5-484 Filed 2-4-05; 8:45 am]

BILLING CODE 3510-22-S